DEPARTMENT OF DEFENSE

Department of the Air Force

Meeting Notice for Air Force Academy Board of Visitors

Pursuant to section 9355, Title 10, United States Code, the U.S. Air Force Academy Board of Visitors will meet at the Russell Senate Office Building in Washington, DC, October 6, 2005. The purpose of the meeting is to consider the morale and discipline, curriculum, instruction, physical equipment, fiscal affairs, academic methods, and other matters relating to the Academy.

A portion of the meeting will be open to the public while other portions will be closed to the public to discuss matters listed in paragraphs (2), (6), and subparagraph (9)(B) of subsection (c) of section 552b, Title 5, United States Code. The determination to close certain sessions is based on the consideration that portions of the briefings and discussion will involve information of a personal nature, the disclosure of which would constitute a clearly unwarranted invasion of personal privacy or involve discussions of information or planned or considered action the premature disclosure of which would be likely to frustrate implementation of future agency action. Meeting sessions will be held in the Veteran's Committee Room (SR-418) of the Russell Senate Office Building, Washington, DC.

FOR FURTHER INFORMATION CONTACT: Major Brian Lewis, Chief, USAFA Policy & Program Support, Directorate of Airman Development & Sustainment, Deputy Chief of Staff, Personnel, AF/DPDOA, 1040 Air Force Pentagon, Washington, DC 20330-1040, (703) 697-8650.

Eugenia Harms,
Alternate Air Force Federal Register Liaison Officer.

[FR Doc. 05-19434 Filed 9-27-05; 8:45 am]

BILLING CODE 5001-05-P